DEPARTMENT OF THE INTERIOR

Bureau of Indian Affairs

Draft Environmental Impact Statement for the Confederated Tribes of the Warm Springs Reservation of Oregon's Proposed Trust Acquisition and Resort and Casino Project, Cascade Locks, Hood River County, OR

AGENCY: Bureau of Indian Affairs, Interior.

ACTION: Notice.

SUMMARY: This notice advises the public that the Bureau of Indian Affairs (BIA) as lead agency, with the Confederated Tribes of the Warm Springs Reservation of Oregon (Tribes), the Oregon Department of Transportation, the City of Cascade Locks, the Port of Cascade Locks, Hood River County and the Federal Highway Administration as cooperating agencies, intends to file a Draft Environmental Impact Statement (DEIS) for a proposed 25-acre trust acquisition and resort and casino project to be located within the City of Cascade Locks, Hood River County, Oregon, and that the DEIS is now available for public review. Public review of the DEIS is part of an administrative process designed to evaluate tribal applications that seek to have the United States to take land into Federal trust pursuant to 25 CFR part 151. Reviewers are advised that we will consider public comments carefully prior to deciding whether to approve or disapprove this application. This notice also extends the normal 45-day public comment period to 90 days in order to accommodate heightened public interest in this proposed action, and it announces five public hearings to receive comments on the DEIS.

DATES: Written comments on the DEIS must arrive by May 15, 2008. The dates and times for the public hearings are as follows:

• March 03, 2008, 6-8:30 p.m.

• March 10, 2008, 6-8:30 p.m.

• March 12, 2008, 6-8:30 p.m.

• March 13, 2008, 6-8:30 p.m.

• March 17, 2008, 6-8:30 p.m.

ADDRESSES: You may mail or hand carry written comments to Gerald Henrikson, Project Manager, Bureau of Indian Affairs, 911 Northeast 11th Avenue, Portland, Oregon 97232. You may also fax your comments to (503) 231-6791, or submit them electronically at the project Web site, http://www.gorgecasinoEIS.com. (Note: The BIA cannot receive electronic comments directly via e-mail at this time.) Please include your name, return address and the caption, “DEIS Comments, Confederated Tribes of the Warm Springs Reservation of Oregon Trust Acquisition and Resort/Casino Project,” on the first page of your written comments.

The locations of the public hearings are as follows:

• March 03—Kah-Nee-Ta High Desert Resort and Casino, Warm Springs, OR.

• March 10—Port of Cascade Locks, Gorge Pavilion, Marine Park, 355 Wa-Na-Pa Street, Cascade Locks, OR.

• March 12—Rock Creek Center, 710 SW Rock Creek Drive, Stevenson, WA.

• March 13—Doubletree Hotel, Lloyd Center, 1000 NE Multnomah, Portland, OR.

• March 17—Hood River Middle School Auditorium, 1602 May Street, Hood River, OR.

If you would like to obtain a copy of the DEIS, please write or call Gerald Henrikson at the BIA address above or the telephone number for him provided below. An electronic version of the DEIS may be viewed at http://www.gorgecasinoEIS.com.

Copies of the DEIS are available for review at the BIA address above and at the following locations.

• Port of Cascade Locks, 710 Lucy Lane, Cascade Locks, OR 97014.

• Federal Highway Administration, 530 Center Street, Room 100, Salem, OR 97301.

• Cascade Locks Library, 140 SE Wa-Na-Pa Street, Cascade Locks, OR 97031.

• Multnomah County Library, Central Branch, 801 SW 10th Street, Portland, OR 97205.

• Gresham Library, 385 NW Miller Avenue, Gresham, OR 97030.

• Vancouver Community Library, 1007 E Mill Plain Boulevard, Vancouver, WA 98663.

• Hood River County, 601 State Street, Hood River, OR 97031.

• Oregon Department of Transportation, Region 1, 123 NW Flanders, Portland, OR 97209.

• Hood River County Library, 502 State Street, Hood River, OR 97014.

• Mosier City Library, 3rd Street, Mosier, OR 97040.

• Stevenson Community Library, 120 NW Vancouver Avenue, Stevenson, WA 98648.

• Fairview—Columbia Library, 1520 NE Village Street, Fairview, OR 97024.

• White Salmon Valley Community Library, #5 Town and Country Square, White Salmon, WA 98672.

Copies of the DEIS have also been sent to agencies and individuals who participated in the scoping process and to all others who had requested copies.

FOR FURTHER INFORMATION CONTACT: Gerald Henrikson, (503) 231-6927.

SUPPLEMENTARY INFORMATION: The Tribes have requested that the BIA take 25 acres of land in the City of Cascade Locks, Oregon, into trust on behalf of the Tribes. The Tribes would develop a resort and casino on the newly acquired trust land and lease adjacent lands (approximately 35 acres) from the Port of Cascade Locks for parking and other facilities related to the resort and casino development. The proposed casino project also would include a new interchange on Interstate 84 (I-84) and local transportation system improvements.

A range of project alternatives is considered in the DEIS, including: (1) The proposed Cascade Locks Resort and Casino Project, (2) a Hood River alternative, (3) a Warm Springs alternative, and (4) no action. The DEIS addresses the potential effects of each of these alternatives on geology and soils, land use, water resources, air quality, noise, plants and wildlife, endangered species, cultural resources, socioeconomic conditions (including environmental justice), transportation, public services, the visual environment, and hazardous wastes and materials. The DEIS examines the direct, indirect, and cumulative effects of each alternative on these resources and identifies mitigation measures to address adverse impacts.

Public Comment Availability

Comments, including names and addresses of respondents, will be available for public review at the mailing address shown in the ADDRESSES section during regular business hours, 8 a.m. to 4:30 p.m., Monday through Friday, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality regulations (40 CFR Parts 1500 through 1508) implementing the procedural requirements of the National Environmental Policy Act of 1969, as amended (42 U.S.C. 4321 et seq.), and the Department of Interior Manual (516 DM 1-6), and is in the exercise of authority delegated to the Assistant Secretary—Indian Affairs by 209 DM 8.1.

Dated: January 28, 2008.
Carl J. Artman,
Assistant Secretary—Indian Affairs.

[FR Doc. E8-2834 Filed 2-14-08; 8:45 am]

BILLING CODE 4310-W7-P